DEPARTMENT OF ENERGY

Federal Energy Regulatory Commission

[Project No. 1971-134]

Idaho Power Company; Notice of Intent To Prepare an Environmental Assessment

On October 8, 2021, Idaho Power Company filed an application to amend the license for the Hells Canyon Hydroelectric Project No. 1971 (FERC No. 1971). The Hells Canyon Project is located on the Snake River in Adams and Washington counties, Idaho and in Wallowa, Malheur, and Baker counties, Oregon. The project occupies federal lands administered by the U.S. Forest Service and the Bureau of Land Management (Payette and Wallowa Whitman National Forests and Hells Canyon National Recreational Area).

In accordance with the Commission's regulations, on November 4, 2021, Commission staff issued a notice that the application was accepted for filing and soliticed comments, motions to intervene and protests. Based on the information in the record, including comments filed on the notice, staff does not anticipate that amending the project would constitute a major federal action significantly affecting the quality of the human environment. Therefore, staff intends to prepare an Environmental Assessment (EA) on the application to amend the Hells Canyon Project.

The EA will be issued and circulated for review by all interested parties.

Any questions regarding this notice may be directed to Jennifer Polardino at (202) 502-6437 or jennifer.polardino@ferc.gov.

Dated: February 23, 2022.
Debbie-Anne A. Reese,
Deputy Secretary.

[FR Doc. 2022-04250 Filed 2-28-22; 8:45 am]

BILLING CODE 6717-01-P